DEPARTMENT OF AGRICULTURE.

Grain Inspection, Packers and Stockyards Administration

Proposed Posting of a Stockyard

AGENCY: Grain Inspection, Packers and Stockyards Administration, USDA.

ACTION: Notice and request for comments.

SUMMARY: The Grain Inspection, Packers and Stockyards Administration (GIPSA) is proposing that one stockyard now operating subject to the Packers and Stockyards (P&S) Act be posted.

DATES: For the proposed posting of stockyards, we will consider comments that we receive by July 30, 2014.

ADDRESSES: We invite you to submit comments on this notice. You may submit comments by any of the following methods:

• Internet: Go to http://www.regulations.gov. Follow the on-line instructions for submitting comments.

• Fax: (202) 690-2173.

• Mail, hand delivery or courier: R. Dexter Thomas, GIPSA, USDA, 1400 Independence Avenue SW., Room 2530-S, Washington, DC 20250-3604.

Instructions: All comments should refer to the date and page number of this issue of the Federal Register. The comments and other documents relating to this action will be available for public inspection during regular business hours.

FOR FURTHER INFORMATION CONTACT: Catherine M. Grasso, Program Analyst, Policy and Litigation Division at (202) 720-7363 or Catherine.m.grasso@usda.gov.

SUPPLEMENTARY INFORMATION: The Grain Inspection, Packers and Stockyards Administration (GIPSA) administers and enforces the P&S Act of 1921, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows: any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.

Section 302(b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary deposts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act, and therefore cannot be posted. A posted stockyard can be deposted, which occurs when the facility is no longer used as a stockyard.

We are hereby notifying stockyard owners and the public that the following stockyard meets the definition of a stockyard, and that we propose to designate this stockyard as a posted stockyard.

Proposed facility No. | Stockyard name and location
MS-178 | Double L Cattle Auction, LLC, Thaxton, Mississippi

Authority: 7 U.S.C. 202.

Larry Mitchell,
Administrator, Grain Inspection, Packers and Stockyards Administration.

[FR Doc. 2014-16444 Filed 7-14-14; 8:45 am]

BILLING CODE 3410-KD-P